DEPARTMENT OF ENERGY

Federal Energy Regulatory Commission

Combined Notice of Filings

Take notice that the Commission has received the following Natural Gas Pipeline Rate and Refund Report filings:

Docket Number: PR20-40-001.

Applicants: Bay Gas Storage Company, LLC.

Description: Tariff filing per 284.123(b),(e)/: Amended 2020 Annual Adjustment to Company Use Percentage to be effective 3/1/2020.

Filed Date: 3/9/2020.

Accession Number: 202003095088.

Comments/Protests Due: 5 p.m. ET 3/30/2020.

Docket Number: PR20-43-000.

Applicants: Columbia Gas of Maryland, Inc.

Description: Tariff filing per 284.123(b),(e)/: CMD SOC Rates effective Feb 19 2020 to be effective 2/19/2020.

Filed Date: 3/9/2020.

Accession Number: 202003095030.

Comments/Protests Due: 5 p.m. ET 3/30/2020.

Docket Numbers: RP19-1523-005.

Applicants: Panhandle Eastern Pipe Line Company, LP.

Description: Compliance filing Compliance with RP19-1523 Order on Technical Conference to be effective 3/1/2020.

Filed Date: 3/11/20.

Accession Number: 20200311-5023.

Comments Due: 5 p.m. ET 3/23/20.

Docket Numbers: RP20-653-000.

Applicants: Tennessee Gas Pipeline Company, L.L.C.

Description: § 4(d) Rate Filing: Abandonment of T-154 in Volume No. 2 to be effective 4/13/2020.

Filed Date: 3/11/20.

Accession Number: 20200311-5001.

Comments Due: 5 p.m. ET 3/23/20.

Docket Numbers: RP20-655-000.

Applicants: Southern Star Central Gas Pipeline, Inc.

Description: § 4(d) Rate Filing: Vol. 2—Negotiated Rate Agreements—BCE-Mach to be effective 2/1/2020.

Filed Date: 3/11/20.

Accession Number: 20200311-5205.

Comments Due: 5 p.m. ET 3/23/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 12, 2020.
Nathaniel J. Davis, Sr.,
Deputy Secretary.

[FR Doc. 2020-05570 Filed 3-17-20; 8:45 am]

BILLING CODE 6717-01-P